DEPARTMENT OF ENERGY

Federal Energy Regulatory Commission

Combined Notice of Filings

Take notice that the Commission has received the following Natural Gas Pipeline Rate and Refund Report filings:

Filings Instituting Proceedings

Docket Numbers: CP19-499-000.

Applicants: Columbia Gas Transmission, LLC.

Description: Abbreviation Application of Columbia Gas Transmission, LLC for Authorization to Abandon Exchange Service under Rate Schedule X-103.

Filed Date: 8/12/19.

Accession Number: 20190812-5093.

Comments Due: 5 p.m. ET 9/3/19.

Docket Numbers: RP19-1039-001.

Applicants: Venice Gathering System, L.L.C.

Description: Request for a Limited Extension of Time to Implement Certain NAESB WGQ Version 3.1 Standards of Venice Gathering System, L.L.C. under RP19-1039.

Filed Date: 8/7/19.

Accession Number: 20190807-5059.

Comments Due: 5 p.m. ET 8/19/19.

Docket Numbers: RP19-1468-000.

Applicants: Northern Natural Gas Company.

Description: § 4(d) Rate Filing: 20190813 Carlton Flow Obligations to be effective 11/1/2019.

Filed Date: 8/13/19.

Accession Number: 20190813-5043.

Comments Due: 5 p.m. ET 8/26/19.

Docket Numbers: RP19-1469-000.

Applicants: DTE Midstream Appalachia, LLC.

Description: Compliance filing Order No. 587-Y Compliance Filing to be effective 8/1/2019.

Filed Date: 8/13/19.

Accession Number: 20190813-5069.

Comments Due: 5 p.m. ET 8/26/19.

Docket Numbers: RP19-1470-000.

Applicants: WestGas InterState, Inc.

Description: Compliance filing 20190813_RP19-1097_Order No. 587-Y to be effective 8/1/2019.

Filed Date: 8/13/19.

Accession Number: 20190813-5122.

Comments Due: 5 p.m. ET 8/26/19.

Docket Numbers: RP19-1471-000.

Applicants: El Paso Natural Gas Company, L.L.C.

Description: § 4(d) Rate Filing: Non-Conforming Negotiated Rate Agreement (Targa) to be effective 9/20/2019.

Filed Date: 8/13/19.

Accession Number: 20190813-5213.

Comments Due: 5 p.m. ET 8/26/19.

Docket Numbers: RP19-910-001.

Applicants: Gulf Shore Energy Partners, LP.

Description: Compliance filing Compliance to 275 to be effective 8/1/2019.

Filed Date: 8/13/19.

Accession Number: 20190813-5175.

Comments Due: 5 p.m. ET 8/26/19.

Docket Numbers: RP19-1472-000.

Applicants: El Paso Natural Gas Company, L.L.C.

Description: § 4(d) Rate Filing: Negotiated Rate Agreements Filing (MRC Permian) to be effective 8/14/2019.

Filed Date: 8/14/19.

Accession Number: 20190814-5097.

Comments Due: 5 p.m. ET 8/26/19.

Docket Numbers: RP19-857-001.

Applicants: Garden Banks Gas Pipeline, LLC.

Description: Compliance filing Garden Banks 587-Y Compliance Filing to be effective 8/1/2019.

Filed Date: 8/14/19.

Accession Number: 20190814-5020.

Comments Due: 5 p.m. ET 8/26/19.

Docket Numbers: RP19-864-001.

Applicants: Mississippi Canyon Gas Pipeline, L.L.C.

Description: Compliance filing Mississippi Canyon—Compliance Filing to be effective 8/1/2019.

Filed Date: 8/14/19.

Accession Number: 20190814-5029.

Comments Due: 5 p.m. ET 8/26/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 15, 2019.
Nathaniel J. Davis, Sr.,
Deputy Secretary.

[FR Doc. 2019-18005 Filed 8-20-19; 8:45 am]

BILLING CODE 6717-01-P